DEPARTMENT OF ENERGY

Federal Energy Regulatory Commission

[Project Nos. 11810-004, 5044-008, and 2935-015]

City of Augusta, Avondale Mills Inc., Enterprise Mill LLC; Notice of Availability of Draft Environmental Assessment

May 20, 2005.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the applications for an Original Major License for the Augusta Canal Project, a New Major License for the Sibley Mill Project, and a Subsequent Minor License for the Enterprise Mill Project. Staff prepared a single environmental assessment (EA) for all three projects, which are located on the Canal, adjacent to the Savannah River, Richmond County, Augusta, GA.

The EA contains staff's analysis of the potential environmental effects of the projects and concludes that licensing the projects, with staff's recommended measures, would not constitute a major federal action significantly affecting the quality of the human environment.

A copy of the EA is available for review at the Commission or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

Any comments should be filed within 45 days from the date of this notice and should be addressed to Magalie R. Salas, Secretary, Federal Energy Regulatory Commission, 888 First Street, NE., Washington, DC 20426. Please affix Augusta Canal Project, P-11810; Sibley Mill Project, P-5044; Enterprise Mill Project, P-2935 to all comments. For further information, please contact Monte TerHaar at (202) 502-6035 or at monte.terhaar@ferc.gov.

Comments may be filed electronically via the Internet in lieu of paper. See 18 CFR 385.2001(a)(1)(iii) and the instructions on the Commission's Web site at http://www.ferc.gov under the e-Filing link. The Commission strongly encourages electronic filings.

Linda Mitry,
Deputy Secretary.

[FR Doc. E5-2665 Filed 5-25-05; 8:45 am]

BILLING CODE 6717-01-P